DEPARTMENT OF TRANSPORTATION

Federal Aviation Administration

Notice of Termination of Environmental Impact Statement for the Friedman Memorial Replacement Airport, Hailey, ID

AGENCY: Federal Aviation Administration (FAA), Department of Transportation (DOT).

ACTION: Notice.

SUMMARY: The Federal Aviation Administration (FAA) announces its decision to terminate the Environmental Impact Statement (EIS) for the Friedman Memorial Replacement Airport.

FOR FURTHER INFORMATION CONTACT: Dave Stelling, by mail at Federal Aviation Administration, Airports Division, Attn: Dave Stelling, Helena Airports District Office, FAA Building Suite 2, 2725 Skyway Drive, Helena, MT 59602-1213, email at dave.stelling@faa.gov, or by telephone (406) 449-5271.

SUPPLEMENTARY INFORMATION: On November 1, 2007, the FAA issued a Notice of Intent in the Federal Register [72 FR 61945] to prepare an EIS for a replacement airport for Friedman Memorial Airport, Hailey, ID. The FAA proceeded with the EIS process in accordance with the National Environmental Policy Act of 1969, as amended. On August 23, 2011, FAA suspended the EIS process due to issues related to wildlife impacts and increased development costs associated with the identified potential sites for the proposed replacement airport. For these same reasons, FAA is announcing its decision today to terminate the EIS. The FAA will continue working with the Friedman Memorial Airport Authority to identify and evaluate alternative means of addressing the issues associated with the existing Friedman Memorial Airport.

Issued in Renton, Washington, on April 26, 2013.
Carolyn T. Read,
Acting Airports Division Manager—Northwest Mountain Region, ANM-600.

[FR Doc. 2013-10511 Filed 5-2-13; 8:45 am]

BILLING CODE 4910-13-P